POSTAL SERVICE

39 CFR Part 111

New Mailing Standards for Domestic Mailing Services

AGENCY: Postal Service™.

ACTION: Final rule.

SUMMARY: The Postal Service will revise Mailing Standards of the United States Postal Service, Domestic Mail Manual (DMM®) to revise pricing and eligibility standards for commercial First-Class Mail® parcels associated with the January 2011 Postal Service filing with the Postal Regulatory Commission (PRC) for Mailing Services. We also will implement changes previously proposed to eliminate the sale of Standard Mail® stamped envelopes.

DATES: Effective April 17, 2011.

FOR FURTHER INFORMATION CONTACT: Marc McCrery at 202-268-2704 or Bill Chatfield at 202-268-7278.

SUPPLEMENTARY INFORMATION: On July 9, 2010, the Postal Service published a Federal Register proposed rule, New Standards for Domestic Mailing Services (75 FR 39477-39492), based on a previous price filing with the PRC that was not implemented. In that proposal, we included the elimination of Standard Mail (including nonprofit) stamped envelopes. We received no comments on that proposal or on the proposal to establish a separate commercial single-piece price for certain First-Class Mail parcels.

First-Class Mail Parcels

The Postal Service will establish a separate price category for commercial single-piece First-Class Mail parcels. Currently, mailers who presort a minimum of 500 First-Class Mail parcels pay single-piece prices for the residual portion of a presorted mailing after sorting to all required area distribution centers (ADCs). We also currently allow non-presort mailers access to those prices, with no volume minimum per mailing.

Commercial Base

Mailers will be able to pay commercial single-piece First-Class Mail prices for their parcels when they pay postage by any of the following three methods: Permit imprint, information-based indicia (IBI) meters, or PC Postage®. Parcels with IBI-metered postage or PC postage, claiming a presorted price or the new commercial single-piece parcel price, must be marked “CommercialBasePrice” in addition to the First-Class Mail marking. Presorted parcels also must be marked “Presorted.” The “CommercialBasePrice” marking may be either within or directly below the indicia area. Except for parcels entered at the new commercial plus prices, First-Class Mail items cannot exceed 13 ounces.

Commercial Plus

The Postal Service also introduces a new price category under First-Class Mail, commercial plus pricing for First-Class Mail, designed for parcels over 13 ounces but less than 16 ounces. The commercial plus pricing option is established for First-Class Mail customers who pay postage with permit imprint, meet specific mailing requirements, and whose account volume exceeds a minimum threshold. All First-Class Mail parcels mailed at commercial plus prices must be marked “CommercialPlusPrice.”

First-Class Mail commercial plus parcels must be machinable parcels that weigh more than 13 ounces but less than 16 ounces. Qualifying mailers also will have the option to pay commercial plus parcel prices for machinable parcels weighing less than 13 ounces. (with a minimum weight of 3.5 ounces the minimum for machinable parcels). A flat commercial plus price is charged at a single-piece price and each of the following presorted price levels: 5-digit, 3-digit, and ADC. Commercial plus parcels may be commingled with other First-Class Mail parcels, subject to adequate documentation. First-Class Mail commercial plus parcel prices will be available for customers who:

• Establish a customer commitment agreement with the Postal Service to mail more than 5,000 First-Class Mail machinable parcels at commercial plus prices in a calendar year.

• Pay for postage using a permit imprint.

• Enter a minimum of 500 pieces of mail for each presorted mailing or a minimum of 200 pieces or 50 pounds of mail for each single-piece mailing.

• Use the Electronic Verification System (eVS®) or submit an electronic postage statement with a computerized manifest.

Additionally, permit holders using Merchandise Return Service (MRS) for First-Class Mail machinable parcels will be eligible for commercial plus parcel prices if the total of their First-Class Mail MRS and outgoing volume meet the minimum volume commitment.

Discontinuation of Standard Mail Stamped Envelopes

Standard Mail (including nonprofit) stamped envelopes will no longer be available for purchase. Sales of Standard Mail envelopes have been declining over the past 10 years. Therefore, the Postal Service eliminates Standard Mail stamped envelopes from our schedules and inventory lists. The eliminated product numbers are: 215100, 215200, 262700, 262800, and 216400.

Determining Single-Piece Weights for Package Services Flats

The Postal Service also revises the standards for determining single-piece weights for flats mailed at Bound Printed Matter, Media Mail, and Library Mail prices to match the change in January 2011 for Package Services parcels. All single-piece weights for these types of flats will be expressed in pounds calculated to two decimal places instead of the current four decimal places.

Standard Mail Nonmachinable Letters

We also make slight revisions to DMM 201 to coordinate changes implemented in January to refer to prices for Standard Mail nonmachinable letters over 3.3 ounces as nonmachinable letter prices rather than nonautomation flats prices.

The Postal Service hereby adopts the following changes to the Mailing Services of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

100 Retail Letters, Cards, Flats, and Parcels

101 Physical Standards

* * * * *

6.0 Additional Physical Standards for First-Class Mail

6.1 Maximum Weight and Size

[Revise the first two sentences of 6.1 as follows:]

First-Class Mail cannot exceed 13 ounces, except for First-Class Mail commercial plus parcels (see 433). First-Class Mail weighing more than 13 ounces that is not entered at commercial plus parcel prices is Priority Mail. * * *

* * * * *

130 First-Class Mail

133 Prices and Eligibility

1.0 Prices and Fees for First-Class Mail

* * * * *

1.2 Price Computation for First-Class Mail

[Revise 1.2 as follows:]

Except for parcels, First-Class Mail prices are charged per ounce or fraction thereof; any fraction of an ounce is considered a whole ounce. For example, if a piece weighs 1.2 ounces, the weight (postage) increment is 2 ounces. The minimum postage per addressed letter or flat piece is that for a piece weighing 1 ounce. The minimum postage per addressed parcel is that for a 3-ounce parcel.

* * * * *

200 Commercial Letters and Cards

201 Physical Standards

* * * * *

2.0 Physical Standards for Nonmachinable Letters

* * * * *

2.1 Criteria for Nonmachinable Letters

[Revise the last sentence of 2.1 to reposition the 3.5 ounce phrase as follows:]

* * * In addition, a letter-size piece is nonmachinable if it weighs more than 3.3 ounces, unless it has a barcode, weighs no more than 3.5 ounces, and is eligible for and claims automation letter prices or Standard Mail Carrier Route (barcoded) letter prices.

* * * * *

2.3 Additional Criteria for Standard Mail Nonmachinable Letters

[Revise the last sentence of 2.3 to agree with the current text of 243.3.2.1, to read as follows:]

* * * Mailers must prepare all nonmachinable letters as described in 245.5.0, and pay nonmachinable letter prices for pieces over 3.3 ounces.

* * * * *

300 Commercial Flats

301 Physical Standards

* * * * *

2.0 Physical Standards for Nonautomation Flats

2.1 First-Class Mail

These additional standards apply to First-Class Mail flat-size pieces:

[Revise 2.1a as follows:]

a. First-Class Mail flats cannot exceed 13 ounces. First-Class Mail flats weighing more than 13 ounces are Priority Mail.

* * * * *

360 Bound Printed Matter

363 Prices and Eligibility

1.0 Price and Fees for Bound Printed Matter

* * * * *

1.2 Commercial Bound Printed Matter

* * * * *

1.2.7 Determining Single-Piece Weight

[Revise the text of 1.2.7 as follows:]

To determine single-piece weight in a mailing of nonidentical-weight pieces, weigh each piece individually. To determine single-piece weight in a mailing of identical-weight pieces, weigh a sample of at least 10 randomly selected pieces and divide the total sample weight by the number of pieces. Express all single-piece weights in decimal pounds rounded off to two decimal places.

* * * * *

370 Media Mail

373 Prices and Eligibility

1.0 Prices and Fees for Media Mail

* * * * *

1.6 Computing Postage for Media Mail

1.6.1 Determining Single-Piece Weight

[Revise the text of 1.6.1 as follows:]

To determine single-piece weight in a mailing of nonidentical-weight pieces, weigh each piece individually. To determine single-piece weight in a mailing of identical-weight pieces, weigh a sample of at least 10 randomly selected pieces and divide the total sample weight by the number of pieces. Express all single-piece weights in decimal pounds rounded off to two decimal places.

* * * * *

380 Library Mail

383 Prices and Eligibility

1.0 Prices and Fees for Library Mail

* * * * *

1.6 Computing Postage for Library Mail

1.6.1 Determining Single-Piece Weight

[Revise the text of 1.6.1 as follows:]

To determine single-piece weight in a mailing of nonidentical-weight pieces, weigh each piece individually. To determine single-piece weight in a mailing of identical-weight pieces, weigh a sample of at least 10 randomly selected pieces and divide the total sample weight by the number of pieces. Express all single-piece weights in decimal pounds rounded off to two decimal places.

* * * * *

400 Commercial Parcels

401 Physical Standards

* * * * *

2.0 Additional Physical Standards by Class of Mail

* * * * *

2.3 First-Class Mail Parcels

2.3.1 Weight

[Revise 2.3.1 as follows:]

First-Class Mail cannot exceed 13 ounces, except for First-Class Mail commercial plus parcels. First-Class Mail weighing more than 13 ounces that is not entered at commercial plus parcel prices is Priority Mail.

* * * * *

[Delete current 2.3.2, Surcharge, in its entirety and renumber current 2.3.3 as new 2.3.2.]

2.4 Standard Mail Parcels and Not-Flat Machinable Pieces

[Delete 2.4.3, Surcharge, in its entirety.]

* * * * *

402 Elements on the Face of a Mailpiece

* * * * *

2.0 Placement and Content of Markings

* * * * *

[Renumber current 2.4 through 2.8 as new 2.5 through 2.9 and add new 2.4 as follows:]

2.4 First-Class Mail Markings

2.4.1 Placement and Content

Markings must be placed as follows:

a. Basic Marking. The basic required marking “Presorted (or “PRSRT”) First-Class Mail” must be printed or produced as part of; directly below; or to the left of the permit imprint or the affixed postage on presorted parcels.

b. Other Markings. In addition to the basic marking in 2.4.1a, First-Class Mail parcels claiming commercial parcel prices must be marked as follows in a prominent location on the address side of the parcel:

1. Except for parcels paid for by permit imprint postage, parcels claiming commercial base prices must be marked “CommercialBasePrice” or “ComBasePrice.”

2. All parcels claiming presorted commercial plus prices must be marked “CommercialPlusPrice” or “ComPlsPrice.”

[Revise the title and text of renumbered 2.5 as follows:]

2.5 Standard Mail Markings

2.5.1 Placement and Content

Markings must be placed as follows:

a. Basic Marking. The basic required marking that indicates the class of mail must be printed or produced as part of; directly below; or to the left of the permit imprint or affixed postage as follows:

1. “Standard,” “STD,” “Presorted Standard,” or “PRSRT STD”

2. “Nonprofit Organization,” “Nonprofit Org.,” or “Nonprofit”

b. Other Markings. Price-specific markings for Standard Mail are “ECRLOT,” “ECRWSH,” “ECRWSS,” and “Customized MarketMail” (or “CMM”). Place price-specific markings in one of the following locations:

1. In the location specified in 2.5.1a.

2. In the address area on the line directly above or two lines above the address if the marking appears alone or included in an optional endorsement line or with carrier route information. If preceded by two asterisks, the price marking may be included in a mailer or manifest keyline or in an MLOCR ink-jet-printed date correction/meter drop shipment line.

* * * * *

430 First-Class Mail

433 Prices and Eligibility

1.0 Prices and Fees for First-Class Mail

1.1 Price Application

[Add new last sentence to 1.1 as follows:]

* * * For prices, see Notice 123-Price List.

1.2 Price Computation for First-Class Mail Parcels

[Revise 1.2 as follows:]

First-Class Mail parcel prices, except for commercial plus prices, are charged per ounce or fraction thereof after the first 3 ounces; any fraction of an ounce over 3 ounces is considered a whole ounce. For example, if a piece weighs 3.2 ounces, the weight (postage) increment is 4 ounces. The minimum postage per addressed piece is that for a piece weighing 3 ounces. First-Class Mail parcels mailed at commercial plus prices pay one price per sortation level, regardless of weight (minimum weight of 3.5 ounces up to less than 16 ounces per parcel).

[Revise title and text of 1.3 to add eligibility standards for the single-piece commercial base parcel price to read as follows:]

1.3 Commercial Base Parcel Prices

For prices, see Notice 123-Price List. First-Class Mail presorted parcels are eligible for commercial base prices. USPS-approved IBI postage meters must print the IBI with the appropriate price marking and electronically transmit transactional data daily to USPS. Nonpresorted First-Class Mail parcels mailed under the following conditions are eligible for single-piece commercial base parcel prices:

a. The residual portion of a presorted mailing prepared under 435.4.0.

b. Nonpresorted mailings for which the postage is paid by permit imprint, IBI meter, or PC Postage. Mailings using permit imprints must contain at least 200 pieces or 50 pounds.

[Renumber current 1.4 through 1.7 as new 1.5 through 1.8 and add new 1.4 as follows:]

1.4 Commercial Plus Prices

For prices, see Notice 123-Price List. Presorted First-Class Mail machinable parcels weighing over 13 ounces, but less than 16 ounces, are eligible for commercial plus prices. Customers mailing presorted machinable parcels less than 13 ounces may optionally pay commercial plus prices instead of commercial base prices. Permit holders using Merchandise Return Service (MRS) for First-Class Mail machinable parcels are eligible for commercial plus parcel prices if the total of their First-Class Mail MRS and outgoing volume meet the minimum volume commitment. First-Class Mail presorted parcels over 13 ounces that do not meet all the standards for commercial plus prices must bear postage at the applicable Priority Mail prices. Commercial plus prices are available for customers presenting mailings of 500 or more presorted parcels who:

a. Establish a customer commitment agreement with the Postal Service to mail more than 5000 First-Class Mail machinable parcels at commercial plus prices in a calendar year. Customers may contact their account manager or the manager, Shipping Support (see 608.8.0 for address) for additional information.

b. Pay for postage by using a permit imprint.

c. Enter a minimum of 500 pieces of mail for each presorted mailing or a minimum of 200 pieces or 50 pounds of mail for each single-piece mailing.

d. Use the Electronic Verification System (eVS) or submit an electronic postage statement with a computerized manifest.

1.5 Surcharge

Unless prepared in 5-digit/scheme containers, presorted parcels are subject to a surcharge if any of the following characteristics apply:

[Revise 1.5 by deleting current item a in its entirety and redesignating current items b and c as new items a and b, and revise to read as follows:]

a. The parcels do not bear a GS1-128 or Intelligent Mail package barcode.

b. The parcels weigh less than 2 ounces or are irregularly shaped, such as rolls, tubes, and triangles.

* * * * *

3.0 Basic Standards for First-Class Mail Parcels

3.1 Description of Service

[Delete the heading of current 3.1.1, Service Objectives, in its entirety and make the text of current 3.1.1 the new text of 3.1.]

[Delete the current 3.1.2, Price Options, in its entirety.]

* * * * *

4.0 Price Eligibility for Presorted First-Class Mail Parcels

* * * * *

4.4 Single-Piece Price

[Revise the text of 4.4 as follows:]

Single-piece prices apply to presorted parcels in a mixed ADC sack, with no minimum volume requirement. Nonpresorted parcels are also eligible for commercial single-piece parcel prices. See 1.3b for commercial base eligibility and 1.4 for commercial plus eligibility.

434 Postage Payment and Documentation

1.0 Basic Standards for Postage Payment

1.1 Postage Payment Options

[Revise the text of 1.1 as follows:]

Postage for presorted First-Class Mail parcels must be paid with affixed postage or permit imprint as specified below. All pieces in a mailing must be paid with the same method unless otherwise authorized by Business Mailer Support (see 608.8.0 for address).

[Revise the title of 2.0 as follows:]

2.0 Postage Payment for Presorted First-Class Mail Parcels

[Revise the title and text of 2.1 as follows:]

2.1 Permit Imprint Postage

All presorted First-Class Mail parcels may bear permit imprint postage under 604.5.0. Parcels entered at commercial plus prices and all mail manifested using the Electronic Verification System (eVS) under 705.2.9 must be paid using a permit imprint. A permit imprint may be used for mailings of nonidentical-weight pieces only if authorized by Business Mailer Support.

2.2 Affixed Postage for Presorted First-Class Mail

[Revise the text of 2.2 as follows:]

Each presorted First-Class Mail parcel bearing affixed postage (not allowed for commercial plus parcels) must bear:

a. The full postage at the First-Class Mail price for which it qualifies.

b. A precanceled stamp (see 604.3.0) or the full postage at the lowest applicable First-Class Mail 1-ounce price, and full postage on pieces with postage evidencing imprints (see 604.4.0) for additional ounce(s) and any fees.

c. Postage in an amount not less than the lowest applicable First-Class Mail parcel price if authorized by Business Mailer Support, plus full postage for additional ounces.

2.3 Additional Postage

[Revise the text of 2.3 as follows:]

Additional postage for pieces with insufficient postage must be paid using an advance deposit account or a meter stamp affixed to the postage statement.

* * * * *

600 Basic Standards for All Mailing Services

* * * * *

604 Postage Payment Methods

* * * * *

2.0 Stamped Stationery

2.1 Plain Stamped Envelope

* * * * *

2.1.2 Availability

[Revise 2.1.2 by deleting item b in its entirety and incorporating item a into the introductory text to read as follows:]

Plain stamped envelopes are available at all Post Offices. Only sizes 6¾ and 10 envelopes are sold in less than full box lots (a full box contains 500 envelopes).

* * * * *

2.2 Personalized Stamped Envelopes

* * * * *

2.2.6 Optional Information

The following endorsements and instructions printed in at least 8-point type may be included as part of the return address:

* * * * *

[Revise item 2.2.6b as follows:]

a. Any sender instruction that specifies a period for holding mail, not fewer than 3 and not more than 30 days. The instruction must appear directly above the return address.

* * * * *

We will publish an appropriate amendment to 39 CFR part 111 to reflect these changes.

Stanley F. Mires,
Chief Counsel, Legislative.

[FR Doc. 2011-1702 Filed 1-26-11; 8:45 am]

BILLING CODE 7710-12-P